Title 3—

The President

Proclamation 10324 of December 16, 2021

Wright Brothers Day, 2021

By the President of the United States of America

A Proclamation

On December 17, 1903, Wilbur and Orville Wright achieved a feat that humankind had dreamed of since time immemorial—a sustained, controlled, powered flight that opened the skies to all humanity. Today, we honor the extraordinary achievements of the Wright Brothers and celebrate their enduring contributions to America's unparalleled leadership in flight.

Many intrepid souls had tried and failed at what the two brothers from Dayton, Ohio—inventors, engineers, dreamers—were able to achieve. After years of designing, testing, and building the Wright Flyer in their hometown workshop, they launched it into flight from the sand dunes and wind of Kitty Hawk, North Carolina on that historic day—covering 120 feet in 12 seconds and taking humankind into a new era.

The first flight made history, but it was only the beginning. The Wright Brothers kept innovating. With every flight, they learned how to improve their techniques and their flying machine. As the flights lengthened, their acclaim grew, and they drew interest from people across our Nation and around the world. The Wright Brothers' unyielding dedication, creativity, and bravery gave birth to modern aviation—skyrocketing our Nation's leadership in flight, and inspiring generations of Americans to take to the skies.

From Amelia Earhart's daring solo flights across the Atlantic and Pacific Oceans, to the Tuskegee Airmen's heroic defense of our country in World War II, to brave astronauts who ventured to the Moon and beyond—America's ingenuity and innovation has continued to soar to new heights. We were the first to break the sound barrier. The first to fly non-stop around the world. Today, we are developing more sustainable fuels and energy sources for the planet, technologies to coordinate increases in air traffic, and satellite systems that can clean up manmade debris in space—and we are harnessing our resources and knowledge from decades of flight missions to take on the existential threat of climate change.

And 118 years after the Wright Brothers' flight into history, earlier this year the National Aeronautics and Space Administration's (NASA) historic Perseverance mission launched the Ingenuity rotorcraft—a small helicopter—10 feet above the surface of Mars. It was the first powered, controlled takeoff and landing on another celestial body. Tucked beneath the propellers was a small cloth taken from the wing of the original Wright Flyer, which now resides at the Smithsonian National Air and Space Museum in Washington, D.C. The ground over which Ingenuity hovered is now called Wright Brothers field—an everlasting reminder of America as the Nation of possibilities.

As we continue to build our progress in flight and space technology, we honor our hard-working pilots, aircrews, astronauts, and aviation scientists that make flying possible across the globe. They represent some of the best of who we are as Americans—restless, bold, and optimistic. Thanks to the tenacity and uniquely American spirit of the Wright Brothers and the pioneers who followed them, the skies are open and connecting people and communities around the world.

The Congress, by a joint resolution approved December 17, 1963, as amended (77 Stat. 402; 36 U.S.C. 143), has designated December 17 of each year as “Wright Brothers Day,” and has authorized and requested the President to issue annually a proclamation inviting the people of the United States to observe that day with appropriate ceremonies and activities.

NOW, THEREFORE, I, JOSEPH R. BIDEN JR., President of the United States of America, do hereby proclaim December 17, 2021, as Wright Brothers Day.

IN WITNESS WHEREOF, I have hereunto set my hand this sixteenth day of December, in the year of our Lord two thousand twenty-one, and of the Independence of the United States of America the two hundred and forty-sixth.

[FR Doc. 2021-27841

Filed 12-20-21; 11:15 am]

Billing code 3395-F2-P